DEPARTMENT OF HOMELAND SECURITY

U.S. Immigration and Customs Enforcement

[Docket No. ICEB-2024-0001]

RIN 1653-ZA47

Employment Authorization for Nationals of Burma F-1 Nonimmigrant Students Experiencing Severe Economic Hardship as a Direct Result of Current Armed Conflict and the Current Humanitarian Crisis in Burma (Myanmar)

AGENCY: U.S. Immigration and Customs Enforcement; Department of Homeland Security.

ACTION: Notice.

SUMMARY: The Department of Homeland Security is suspending certain regulatory requirements for F-1 nonimmigrant students from Burma who are experiencing severe economic hardship as a direct result of current armed conflict and the current humanitarian crisis in Burma. The Secretary is providing relief to these students who are in lawful F-1 nonimmigrant status, so the students may request employment authorization, work an increased number of hours while school is in session, and reduce their course load while continuing to maintain their F-1 nonimmigrant status.

DATES: This action is effective May 26, 2024, through November 25, 2025.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Burma regardless of country of birth (or individuals having no nationality who last habitually resided in Burma), who are present in the United States in lawful F-1 nonimmigrant student status on the date of publication of this notice, and who are experiencing severe economic hardship as a direct result of current armed conflict and the current humanitarian crisis in Burma. The original notice, which applied to F-1 nonimmigrant students who met certain criteria, including having been lawfully present in the United States in F-1 nonimmigrant status on May 25, 2021, was effective from May 25, 2021, through November 25, 2022. See 86 FR 28128 (May 25, 2021). A subsequent notice provided for an extension, effective from November 26, 2022, through May 25, 2024, and expanded the applicability of such suspension to F-1 nonimmigrant students from Burma who were in lawful F-1 nonimmigrant student status on September 27, 2022. See 87 FR 58509 (Sept. 27, 2022). Effective with this publication, suspension of the employment limitations is available through November 25, 2025, for those who are in lawful F-1 nonimmigrant status on the date of publication of this notice. DHS will deem an F-1 nonimmigrant student granted employment authorization through this Notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of November 25, 2025, provided the student satisfies the minimum course load requirements in this notice.

Who is covered by this notice?

This notice applies exclusively to F-1 nonimmigrant students who meet all of the following conditions:

(1) Are a citizen of Burma regardless of country of birth (or an individual having no nationality who last habitually resided in Burma);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of current armed conflict and the current humanitarian crisis in Burma.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to F-1 nonimmigrant students from Burma experiencing severe economic hardship due to current armed conflict and the current humanitarian crisis in Burma. Based on its review of country conditions in Burma and input received from the U.S. Department of State (DOS), DHS is taking action to allow eligible F-1 nonimmigrant students from Burma to request employment authorization, work an increased number of hours while school is in session, and reduce their course load while continuing to maintain F-1 nonimmigrant student status.

In the last 18 months, what has been described as a civil war ² has continued throughout Burma. Violent conflict impacted 315 out of 330 of Burma's townships (sub-districts).³ This has resulted in thousands of civilian deaths, with the military reportedly targeting populations thought to provide support to the resistance. So far, the fighting has displaced over 2.5 million persons, and made life difficult for the more than 300,000 persons who were already internally displaced when the military coup of February 2021 occurred. Recently, as the number of internally displaced persons in Burma surpassed two million, the United Nations Secretary General appealed to all sides to protect non-combatants and open access for humanitarian aid.⁴

² Council on Foreign Relations, Global Conflict Tracker: Civil War in Myanmar, available at https://www.cfr.org/global-conflict-tracker/conflict/rohingya-crisis-myanmar (last visited Nov. 30, 2023); see also, Yun Sun, The Brookings Institution, The civil war in Myanmar: no end in sight, Feb. 13, 2023, available at https://www.brookings.edu/articles/the-civil-war-in-myanmar-no-end-in-sight/ (last visited Nov. 30, 2023); International Crisis Group, State-managed elections in Myanmar may lead to further violence, Mar. 28, 2023, available at https://www.crisisgroup.org/asia/south-east-asia/myanmar/stage-managed-elections-myanmar-may-lead-further-violence (last visited Nov. 30, 2023).

³ The Economist, Myanmar's junta suffers startling defeats, Nov. 16, 2023, available at: https://www.economist.com/asia/2023/11/16/myanmars-junta-suffers-startling-defeats (last visited Nov. 24, 2023); Shona Loong, International Institute for Strategic Studies, Post-coup Myanmar in six warscapes, June 10, 2022, available at: https://myanmar.iiss.org/analysis/introduction (last visited Nov. 24, 2023).

⁴ BBC, Myanmar junta's war against rebels displaces millions: UN, Nov. 16, 2023, available at https://www.bbc.com/news/world-asia-67435786 (last visited Nov. 24, 2023).

Armed Conflict

Since the military coup, an estimated 315 out of Burma's 330 sub-districts or townships have been impacted by violence.⁵ Recently, armed opposition groups have grown more unified and have had more success in defeating Burma's military forces. On October 27, 2023, in an operation termed the “1027 offensive”, which included a coalition of ethnic armed groups, armed opposition forces launched attacks on the military junta and its allies in northern Shan State.⁶ This resistance operation, which led to the defeat of Burma's military forces along the Indian and Chinese borders, has also reportedly resulted in an increase in killings of civilians.⁷ United Nations (U.N.). agencies have reported that, “urban areas have increasingly been affected by intense fighting and aerial bombardment.” ⁸

⁵ The Economist, Myanmar's junta suffers startling defeats, Nov. 16, 2023, available at https://www.economist.com/asia/2023/11/16/myanmars-junta-suffers-startling-defeats (last visited Nov. 24, 2023); Shona Loong, International Institute for Strategic Studies, Post-coup Myanmar in six warscapes, June 10, 2022, available at https://myanmar.iiss.org/analysis/introduction (last visited Nov. 24, 2023).

⁶ The Economist, Myanmar's junta suffers startling defeats, Nov. 16, 2023, available at https://www.economist.com/asia/2023/11/16/myanmars-junta-suffers-startling-defeats (last visited Nov. 24, 2023).

⁷ The Irrawaddy, Myanmar Junta Killed at Least 150 Civilians Since Operation 1027 Launch, Nov. 17, 2023, available at https://www.irrawaddy.com/news/conflicts-in-numbers/myanmar-junta-killed-at-least-150-civilians-since-operation-1027-launch.html (last visited Nov. 27, 2023).

⁸ UN News, Myanmar: Intense fighting spreads to cities, as civilians seek shelter, Nov. 17, 2023, available at https://news.un.org/en/story/2023/11/1143702 (last visited Nov. 24, 2023).

The recent fighting has displaced an additional 600,000 people, bringing the total number of displaced persons to over two and a half million. An estimated 70 civilians (and combatants who are out of action) reportedly have been killed and 90 wounded during the recent uptick in fighting.⁹ A June 2023 report, issued by the Peace Research Institute Oslo, stated that, “at least 6,337 civilians were reported as killed and at least 2,614 as wounded for political reasons in Myanmar in the twenty months between the military coup of February 2021 and September 30, 2022.” ¹⁰ The report emphasized that these numbers only included persons that have been reported as being killed, and also noted that “politically motivated murders, not collateral killings in connection with armed clashes, constituted the dominant form of violence against civilians in both urban and rural areas in the 20-month period after the coup.”

⁹ Id.

¹⁰ Peace Research Institute Oslo, Counting Myanmar's Dead: Reported Civilian Casualties since the 2021 Military Coup, Jun. 13, 2023, available at https://reliefweb.int/report/myanmar/counting-myanmars-dead-reported-civilian-casualties-2021-military-coup (last visited Nov. 24, 2023).

Human Rights Concerns

DOS, in its 2022 Country Reports on Human Rights Practices, said that “Reports of killings, disappearances, excessive use of force, disregard for civilian life, gender-based violence, and other abuses committed by regime security forces were common; some groups were accused of similar abuses.” ¹¹ According to the Assistance Association for Political Prisoners (Association), as of November 27, 2023, 19,721 persons are currently in detention following the February 2021 military coup. Since then, 25,463 people have been arrested in connection with the military coup. The Association also reported that 4,202 people, including pro-democracy activists and civilians, have been killed by the Burma's military or associated forces.¹² As of February 7, 2024, the Association reported that 20,060 individuals are currently in detention.¹³

¹¹ U.S. Dep't of State, 2022 Country Reports on Human Rights Practices: Burma, Mar. 20, 2023, available at https://www.state.gov/reports/2022-country-reports-on-human-rights-practices/burma/ (last visited Nov. 24, 2023).

¹² Assistance Association for Political Prisoners (Burma), Daily Briefing in Relation to the Military Coup, Nov. 27, 2023, available at https://aappb.org/?p=26812 (last visited Feb. 8, 2024).

¹³ Assistance Association for Political Prisoners (Burma), Daily Briefing in Relation to the Military Coup, Feb. 7, 2024. Available at https://aappb.org/?p=27376 (last visited Feb. 9, 2024).

In the 2023 Trafficking in Persons Report for Burma, DOS indicated that Burma's military frequently forces children to enlist to fight against the armed resistance.¹⁴ In this report, DOS states that, “The media and other local sources reported cases of the military forcibly recruiting and using adults and children—including via abduction and threats of death.” ¹⁵ This became increasing common as Burma's military has suffered casualties, desertions, and shortages of recruits in recent months.¹⁶

¹⁴ U.S. Dep't of State, 2023 Trafficking in Persons Report: Burma, June 15, 2023, available at https://www.state.gov/wp-content/uploads/2023/09/Trafficking-in-Persons-Report-2023_Introduction-V3e.pdf (last visited Jan. 8, 2024).

¹⁵ Id.

¹⁶ The Irrawaddy, Myanmar Military Administrators Forced to Recruit for Militias, Oct. 6, 2023, available at https://www.irrawaddy.com/news/burma/myanmar-junta-administrators-forced-to-recruit-for-militias.html (last visited Nov. 27, 2023).

Humanitarian Concerns

From May 24, 2022 to November 9, 2023, the number of persons in Burma who have been internally displaced since the February 2021 military coup grew from an estimated 694,300, to an estimated 1,710,200, an increase of 146 percent.¹⁷ In the same period, the number of persons displaced from Burma to neighboring countries increased from an estimated 40,200, to an estimated 54,900, an increase of 37 percent.¹⁸ As of November 9, 2023, the states and regions with at least (post-coup) 40,000 displaced persons were Chin, Sagaing, Magwe, Shan (South), Shan (North), Kayah (Karenni), and Kayin (Karen), Bago (East), Mon and Tanintharyi.¹⁹ Five states and regions have over 100,000 (post-coup) displaced persons: Sagaing, Magwe, Kayah (Karenni), Kayin (Karen) and Bago (East).²⁰ An additional 306,000 people remain displaced from before the military coup, mostly in Chin, Kachin, Rakhine and Shan states.²¹

¹⁷ U.N. High Commission for Refugees, Myanmar Emergency Overview Map, Nov. 9, 2023, available at https://www.ecoi.net/en/file/local/2100306/231106+Myanmar+displacement+overview.pdf (last visited Nov. 24, 2023); See also, Myanmar Emergency Overview Map, UNHCR, May 24, 2022, available at https://www.ecoi.net/en/file/local/2073589/220523+Myanmar+displacement+overview.pdf (last visited Nov. 28, 2023).

¹⁸ U.N. High Commission for Refugees, Myanmar Emergency Overview Map, Nov. 9, 2023, available at https://www.ecoi.net/en/file/local/2100306/231106+Myanmar+displacement+overview.pdf (last visited Nov. 24, 2023); Myanmar Emergency Overview Map, UNHCR, May 24, 2022, available at https://www.ecoi.net/en/file/local/2073589/220523+Myanmar+displacement+overview.pdf (last visited Nov. 28, 2023).

¹⁹ U.N. High Commission for Refugees, Myanmar Emergency Overview Map, Nov. 9, 2023, available at https://www.ecoi.net/en/file/local/2100306/231106+Myanmar+displacement+overview.pdf (last visited Nov. 24, 2023).

²⁰ Id.

²¹ U.N. Office for the Coordination of Humanitarian Affairs, Myanmar Humanitarian Update No. 34, Nov. 10, 2023, available at https://reliefweb.int/report/myanmar/myanmar-humanitarian-update-no-34-10-november-2023 (last visited Nov. 28, 2023).

The U.N. reports, additionally, that “an estimated 77,000 civilian properties, including houses, religious structures, education, and health facilities, have reportedly been destroyed in areas affected by violence, mostly across the Northwest and the Southeast, although this data is difficult to verify.” ²² In May 2023, Cyclone Mocha hit Burma, devastating parts of the country, particularly in the Rakhine State.²³

²² Id.

²³ BBC, Cyclone Mocha: Deadly storm hits Myanmar and Bangladesh coasts, May 15, 2023, available at https://www.bbc.com/news/world-asia-65587321 (last visited Nov. 28, 2023).

Economic Concerns

Economic conditions in Burma, which have deteriorated in part due to conflict, have worsened the humanitarian crisis.²⁴ Burma's economy experienced a sharp contraction in 2021 ²⁵ and, while it is beginning to recover, remains at pre-pandemic levels with conflict-related factors inhibiting growth.²⁶ According to the World Bank, “High prices and shortages resulting from import restrictions make it difficult for many businesses to source essential inputs, while power outages have become prominent. Investment remains weak, with new business registrations at a low level.”²⁷ With the exception of the agriculture section, profits have declined due to rising costs and limited activity in areas as a result of conflict.²⁸ Inflation in 2023 has declined slightly to 14.18 percent, but remains high, albeit with projections that it will stabilize in years to come.²⁹

²⁴ The Diplomat, The Unfolding Humanitarian Crisis in Myanmar, Sep. 30, 2023, available at https://thediplomat.com/2023/09/the-unfolding-humanitarian-crisis-in-myanmar/ (last visited Nov. 29, 2023).

²⁵ Reuters, Myanmar economy to remain `severely diminished' amid conflict—World Bank, Mar. 30, 2023, available at https://www.reuters.com/markets/asia/myanmar-economy-remain-severely-diminished-amid-conflict-world-bank-2023-03-31/#:~:text=The%20World%20Bank%20said%20Myanmar's,according%20to%20the%20World%20Bank (last visited Nov. 29, 2023).

²⁶ The World Bank, Myanmar Economic Monitor June 2023: A fragile recovery. Key Findings, June 27, 2023, available at https://www.worldbank.org/en/country/myanmar/publication/myanmar-economic-monitor-june-2023-a-fragile-recovery-key-findings (last visited Nov. 29, 2023).

²⁷ Id.

²⁸ Id.

²⁹ Statista, Myanmar: Inflation rate from 2008 to 2028, Oct. 2023, available at https://www.statista.com/statistics/525770/inflation-rate-in-myanmar/ (last visited Nov. 29, 2023).

As of February 23, 2024, approximately 4,135 F-1 nonimmigrant students from Burma are enrolled at SEVP-certified academic institutions in the United States. Given the extent of current armed conflict and the current humanitarian crisis in Burma, affected students whose primary means of financial support comes from Burma may need to be exempt from the normal student employment requirements to continue their studies in the United States. Current armed conflict and the current humanitarian crisis has made it unfeasible for many students to safely return to Burma for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of Federal and State labor laws limiting the employment of minors.

May an eligible F-1 nonimmigrant student who already has on-campus or off-campus employment authorization benefit from the suspension of regulatory requirements under this notice?

Yes. An F-1 nonimmigrant student who is a citizen of Burma, regardless of country of birth (or an individual having no nationality who last habitually resided in Burma), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].³⁰

³⁰See note 1, supra.

Must the F-1 nonimmigrant student apply for reinstatement after expiration of this special employment authorization if the student reduces his or her “full course of study”?

No. DHS will deem an F-1 nonimmigrant student who receives and comports with the employment authorization permitted under this notice to be engaged in a “full course of study” ³¹ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

³¹See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Burma regardless of country of birth (or an individual having no nationality who last habitually resided in Burma);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of current armed conflict and the current humanitarian crisis in Burma.

An F-1 nonimmigrant student who does not meet all these requirements is ineligible for the suspension of the applicability of the standard regulatory requirements (even if experiencing severe economic hardship as a direct result of current armed conflict and the current humanitarian crisis in Burma).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Burma enrolled in kindergarten through grade 12 at a private school, or grades 9 through 12 at a public high school. Such students must maintain the minimum number of hours of class attendance per week prescribed by the academic institution for normal progress toward graduation, as required under 8CFR214.2(f)(6)(i)(E). The suspension of certain regulatory requirements related to employment through this notice is applicable to all eligible F-1 nonimmigrant students regardless of educational level. Eligible F-1 nonimmigrant students from Burma enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].³²

³² See note 1, supra.

To obtain on-campus employment authorization, the F-1 nonimmigrant student must demonstrate to the DSO that the employment is necessary to avoid severe economic hardship directly resulting from current armed conflict and the current humanitarian crisis in Burma. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ³³ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.³⁴

³³ See 8 CFR 214.2(f)(6).

³⁴ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ³⁵ for the purpose of maintaining F-1 nonimmigrant student status for the duration of the student's employment authorization if the student satisfies the minimum course load requirement described in this notice, consistent with 8 CFR 214.2(f)(6)(i)(F). The authorization for a reduced course load is solely for DHS purposes of determining valid F-1 nonimmigrant student status. Nothing in this notice mandates that school officials allow an F-1 nonimmigrant student to take a reduced course load if such reduced course load would not meet the school's minimum course load requirement.³⁶

³⁵ See 8 CFR 214.2(f)(6).

³⁶ See note 34, supra.

How may an eligible F-1 nonimmigrant student obtain employment authorization for off-campus employment with a reduced course load under this notice?

An F-1 nonimmigrant student must file a Form I-765, Application for Employment Authorization, with USCIS to apply for off-campus employment authorization based on severe economic hardship directly resulting from current armed conflict and the current humanitarian crisis in Burma.³⁷ Filing instructions are located at https://www.uscis.gov/i-765.

³⁷ See 8 CFR 274a.12(c)(3)(iii).

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver. The submission must include an explanation about why USCIS should grant the fee waiver and the reason(s) for the inability to pay, and any evidence to support the reason(s). See 8 CFR 103.7 (c) (Oct. 1, 2020).³⁸

³⁸ On January 31, 2024, DHS published a final rule that adjusts certain fees and moves the description of the fees for the Form I-821 and Form I-765 and the biometric services fee to 8 CFR 106.2 and the fee waiver-related regulations to 8 CFR 106.3. U.S. Citizenship and Immigration Services Fee Schedule and Changes to Certain Other Immigration Benefit Request Requirements, 89 FR 6194 (Jan. 31, 2024) (effective Apr. 1, 2024). Additional information about the rule is available on the USCIS website. Frequently Asked Questions on the USCIS Fee Rule, USCIS, https://www.uscis.gov/forms/filing-fees/frequently-asked-questions-on-the-uscis-fee-rule (last visited Feb. 7, 2024).

Supporting documentation. An F-1 nonimmigrant student seeking off-campus employment authorization due to severe economic hardship must demonstrate the following to their DSO:

(1) This employment is necessary to avoid severe economic hardship; and

(2) The hardship is a direct result of current armed conflict and the current humanitarian crisis in Burma.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].³⁹

³⁹ See note 1, supra.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ⁴⁰ at the time of the request for employment authorization;

⁴⁰ See 8 CFR 214.2(f)(6).

(b) The F-1 nonimmigrant student is a citizen of Burma, regardless of country of birth (or an individual having no nationality who last habitually resided in Burma), and is experiencing severe economic hardship as a direct result of current armed conflict and the current humanitarian crisis in Burma, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁴¹ and

⁴¹ 8 CFR 214.2(f)(5)(v).

(d) The off-campus employment is necessary to alleviate severe economic hardship to the individual as a direct result of current armed conflict and the current humanitarian crisis in Burma.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); ⁴² and

⁴² See note 38, supra.

(3) A signed and dated copy of the student's Form I-20 with the appropriate DSO recommendation, as previously described in this notice; and

(b) Send the application in an envelope which is clearly marked on the front of the envelope, bottom right-hand side, with the phrase “SPECIAL STUDENT RELIEF.” ⁴³ Failure to include this notation may result in significant processing delays.

⁴³ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁴⁴ under this notice has two options.

⁴⁴ See DHS Study in the States, Special Student Relief, https://studyinthestates.dhs.gov/students/special-student-relief (last visited Oct. 10, 2023).

Under the first option, the F-1 nonimmigrant student may apply for TPS according to the instructions in the USCIS notice designating Burma for TPS elsewhere in this issue of the Federal Register. All TPS applicants must file a Form I-821, Application for Temporary Protected Status, with the appropriate fee (or request a fee waiver). Although not required to do so, if F-1 nonimmigrant students want to obtain a new TPS-related EAD that is valid through November 25, 2025, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating Burma for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, as long as the F-1 nonimmigrant student maintains the minimum course load described in this notice and does not otherwise violate the student's nonimmigrant status, including as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁴⁵ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁴⁵ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from current armed conflict and the current humanitarian crisis in Burma. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until November 25, 2025,⁴⁶ to eligible F-1 nonimmigrant students. DHS will continue to monitor the situation in Burma. Should the special provisions authorized by this notice need modification or extension, DHS will announce such changes in the Federal Register.

⁴⁶ See note 1, supra.

Paperwork Reduction Act (PRA)

An F-1 nonimmigrant student seeking off-campus employment authorization due to severe economic hardship resulting from current armed conflict and the current humanitarian crisis in Burma must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control Number 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2024-06096 Filed 3-22-24; 8:45 am]

BILLING CODE 9111-CB-P